DEPARTMENT OF TRANSPORTATION

Federal Aviation Administration

14 CFR Part 39

[Docket No. FAA-2011-0816; Directorate Identifier 2011-CE-022-AD]

RIN 2120-AA64

Airworthiness Directives; Costruzioni Aeronautiche Tecnam srl Airplanes

AGENCY: Federal Aviation Administration (FAA), Department of Transportation (DOT).

ACTION: Supplemental notice of proposed rulemaking (NPRM); extension of the comment period.

SUMMARY: We are revising an earlier NPRM for Costruzioni Aeronautiche Tecnam srl Model P2006T airplanes. This proposed AD results from mandatory continuing airworthiness information (MCAI) originated by an aviation authority of another country to identify and correct an unsafe condition on an aviation product. The MCAI describes the unsafe condition as cracking, bulging, deformation, or oil leakage in the lower lid of the landing gear emergency accumulator, which could result in decreasing the airplane's structural integrity and jeopardizing the landing gear emergency extension in case of system failure in normal mode. We are issuing this proposed AD to require actions to address the unsafe condition on these products.

DATES: We must receive comments on this proposed AD by July 30, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Costruzioni Aeronautiche TECNAM Airworthiness Office, Via Maiorise—81043 Capua (CE) Italy; telephone: +39 0823 620134; fax: +39 0823 622899; email: m.oliva@tecnam.com or p.violetti@tecnam.com; Internet: www.tecnam.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Albert Mercado, Aerospace Engineer, FAA, Small Airplane Directorate, 901 Locust, Room 301, Kansas City, Missouri 64106; phone: (816) 329-4119; fax: (816) 329-4090; email: albert.mercado@faa.gov.

SUPPLEMENTARY INFORMATION:

Comments Invited

We invite you to send any written relevant data, views, or arguments about this proposed AD. Send your comments to an address listed under the ADDRESSES section. Include “Docket No. FAA-2011-0816; Directorate Identifier 2011-CE-022-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We proposed to amend 14 CFR part 39 with an earlier NPRM for the specified products, which was published in the Federal Register on August 8, 2011 (76 FR 48045). That earlier NPRM proposed to require actions intended to address the unsafe condition for the products listed above.

Since that NPRM (76 FR 48045, August 8, 2011) was issued, TECNAM found that the replacement part number could cause a deformation of the emergency accumulator, so TECNAM has developed a modification for the landing gear extension emergency accumulator and revised the service information to include instructions for that modification.

The European Aviation Safety Agency (EASA), which is the Technical Agent for the Member States of the European Community, has issued EASA AD No.: 2012-0043, dated March 19, 2012 (referred to after this as “the MCAI”), to correct an unsafe condition for the specified products. The MCAI states:

During a pre-flight inspection of a P2006T aeroplane, the lower skin of the fuselage aft tail cone was found damaged. This damage was caused by the lower lid of the LG emergency accumulator, which had detached from the LG emergency accumulator, violently hitting the lower skin of the fuselage aft tail cone and damaging the accumulator cylinder.

This condition, if not detected and corrected, could impair the aeroplane structural integrity and jeopardize the LG emergency extension in case of system failure in normal mode.

For the reasons described above, EASA issued Emergency AD 2011-0063-E to require a one-time inspection of the LG emergency accumulator cylinder for cracks, deformation or oil leakage and, depending on findings, the accomplishment of the applicable corrective actions.

After that AD was issued, Costruzioni Aeronautiche TECNAM developed a modification (MOD 2006-108) and published Service Bulletin (SB) SB-048-CS Revision 1, dated 06 July 2011, that contained the instructions for that modification. Prompted by this development, EASA issued PAD 11-070 for consultation until 16 August 2011, proposing to require incorporation of this modification on all affected aeroplanes, and to require certain post-modification repetitive inspections.

During the consultation period of PAD 11-070, an operator who had applied Costruzioni Aeronautiche TECNAM SB-048-CS on his aeroplane, reported finding abnormal deformation of the emergency accumulator, to such an extent that it would jeopardize the LG emergency extension in case of system failure in normal mode. To address this additional safety concern, Costruzioni Aeronautiche TECNAM issued SB-068-CS which contains instructions to inspect post-modification aeroplanes.

For the reasons described above, EASA AD 2011-0153-E retained the requirements of EASA AD 2011-0063-E, which was superseded, and required modification of the landing gear emergency accumulator by installation of safety rings and repetitive inspections after modification. In addition, prompted by the recent post-modification findings, EASA AD 2011-0153-E reduced the compliance time for the modification as originally proposed and required additional first-flight-of-the-day repetitive inspections for the LG emergency accumulator cylinder and replacement of the LG emergency accumulator if cracks, deformation, or oil leakage is detected.

AD Revision 2011-0153R1 was issued in order to allow Pilot-Owners to accomplish the daily pre-flight inspection of the modified LG emergency accumulator.

After that AD Revision, Costruzioni Aeronautiche TECNAM designed a new LG emergency accumulator part number 26-9-9500-000, identified as modification MOD 2006-121, and published SB-080-CS dated 02 January 2012, which contains instructions for replacement and installation of the newly designed LG emergency accumulator.

This AD, which supersedes EASA AD 2011-0153R1, requires the installation of the new landing gear emergency accumulator part number 26-9-9500-000, as well as to inspect after the installation the LG emergency accumulator and the LG retraction/extension system.

You may obtain further information by examining the MCAI in the AD docket.

Relevant Service Information

Costruzioni Aeronautiche TECNAM has issued Service Bulletin No. SB 80-CS, dated January 2, 2012. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Certain changes described above expand the scope of the earlier NPRM. As a result, we have determined that it is necessary to reopen the comment period to provide additional opportunity for the public to comment on the proposed AD.

Costs of Compliance

We estimate that this proposed AD will affect 7 products of U.S. registry. We also estimate that it would take about 7 work-hours per product to comply with the basic requirements of this proposed AD. The average labor rate is $85 per work-hour. Required parts would cost about $1,300 per product.

Based on these figures, we estimate the cost of the proposed AD on U.S. operators to be $13,265, or $1,895 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Costruzioni Aeronautiche Tecnam srl: Docket No. FAA-2011-0816; Directorate Identifier 2011-CE-022-AD.

(a) Comments Due Date

We must receive comments by July 30, 2012.

(b) Affected ADs

None.

(c) Applicability

This AD applies to Costruzioni Aeronautiche Tecnam srl Model P2006T airplanes, serial numbers (S/N) 001/US through S/N 88/US, certificated in any category.

(d) Subject

Air Transport Association of America (ATA) Code 32: Landing Gear.

(e) Reason

This proposed AD was prompted by cracking, bulging, deformation, or oil leakage in the lower lid of the landing gear emergency accumulator, which could result in decreasing the airplane's structural integrity and jeopardizing the landing gear emergency extension in case of system failure in normal mode. We are issuing this proposed AD to require actions to address the unsafe condition on these products.

(f) Actions and Compliance

Unless already done, do the following actions:

(1) Within 90 days after the effective date of this AD, replace the landing gear (LG) emergency accumulator with a new emergency accumulator part number 26-9-9500-000, following the instructions in Costruzioni Aeronautiche Tecnam Service Bulletin SB 80-CS, dated January 2, 2012.

(2) Within 300 hours time-in-service (TIS) after compliance with paragraph (f)(1) of this AD and repetitively thereafter at intervals not to exceed 300 hours TIS, inspect the LG emergency accumulator and the LG retraction/extension system for damage and leakage following the applicable instructions in Costruzioni Aeronautiche TECNAM P2006T Aircraft Maintenance Manual Chapter 5, Inspection Program.

(3) If any damage or leakage is found as a result of any inspection required in paragraph (f)(2) of this AD, before further flight, do the applicable corrective actions following the instructions in Costruzioni Aeronautiche TECNAM P2006T Aircraft Maintenance Manual, Document No. 2006/045, 2nd Edition—Revision 1, dated April 27, 2011.

(g) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2012-0043, dated March 19, 2012; Costruzioni Aeronautiche Tecnam Service Bulletin SB 80-CS, dated January 2, 2012; Costruzioni Aeronautiche TECNAM P2006T Aircraft Maintenance Manual Chapter 5, Inspection Program; and Costruzioni Aeronautiche Tecnam P2006T Maintenance Manual, 2nd Edition, Revision 1, dated April 7, 2011, for related information. For service information related to this AD, contact Costruzioni Aeronautiche TECNAM Airworthiness Office, Via Maiorise—81043 Capua (CE) Italy; telephone: +39 0823 620134; fax: +39 0823 622899; email: m.oliva@tecnam.com, p.violetti@tecnam.com; Internet: www.tecnam.com. You may review copies of the referenced service information at the FAA, Small Airplane Directorate, 901 Locust, Kansas City, Missouri 64106. For information on the availability of this material at the FAA, call (816) 329-4148.

Issued in Kansas City, Missouri, on June 7, 2012.
John Colomy,
Acting Manager, Small Airplane Directorate, Aircraft Certification Service.

[FR Doc. 2012-14368 Filed 6-12-12; 8:45 am]

BILLING CODE 4910-13-P